DEPARTMENT OF LABOR

Mine Safety and Health Administration

[OMB Control No. 1219-0066]

Proposed Extension of Information Collection; Testing, Evaluation, and Approval of Mining Products

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection for Testing, Evaluation, and Approval of Mining Products, 30 CFR subchapter B—parts 6 through 36.

DATES: All comments must be received on or before June 10, 2024.

ADDRESSES: Comments concerning the information collection requirements of this notice may be sent by any of the methods listed below. Please note that late comments received after the deadline will not be considered.

• Federal E-Rulemaking Portal: https://www.regulations.gov. Follow the on-line instructions for submitting comments for docket number MSHA-2024-0002.

• Mail/Hand Delivery: DOL-MSHA, Office of Standards, Regulations, and Variances, 201 12th Street South, 4th Floor West, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

Section 103(h) of the Federal Mine Safety and Health Act of 1977 (Mine Act) as amended, 30 U.S.C. 813(h), authorizes Mine Safety and Health Administration (MSHA) to collect information necessary to carry out its duty in protecting the safety and health of miners. Further, section 101(a) of the Mine Act, 30 U.S.C. 811(a), authorizes the Secretary of Labor (Secretary) to develop, promulgate, and revise as may be appropriate, improved mandatory health or safety standards for the protection of life and prevention of injuries in coal, metal and nonmetal mines.

MSHA is responsible for the inspection, testing, approval and certification, and quality control of mining equipment and components, materials, instruments, and explosives used in both underground and surface coal, metal, and nonmetal mines. 30 CFR 6 through 36 contain procedures and specifications by which manufacturers may apply for and have equipment approved as “permissible” for use in mines.

Under 30 CFR 14.4, 15.4, 18.6, 18.81, 18.82, 18.93, 18.94, 19.3, 19.10, 20.3, 20.11, 22.4, 22.8, 23.3, 23.10, 27.4, 27.6, 28.10, 33.6, 35.6, and 36.6, applicants seeking product approval must submit an application that includes all the specifications, drawings, and other information needed for the approval. This information is necessary for MSHA to evaluate, test, and possibly approve products that do not cause a fire or explosion risk in a mine. Some products have separate requirements for applications for extensions of approvals to cover proposed changes: 30 CFR 18.15, 19.13, 20.14, 22.11, 23.14, 27.11, 28.25, 33.12, 35.12, and 36.12. For extensions of approvals, the applicant is not required to resubmit documentation that is duplicative or was previously submitted for the approval. Only information related to changes in the previously approved product is required, avoiding unnecessary paperwork.

Under 30 CFR 7.3, the general procedures and requirements provides what an applicant must meet for MSHA approval of a product. The application procedures apply to the original application, an application for similar products, and an extension of approval. The technical documents required for different products is specified in 30 CFR 7.23, 7.43, 7.63, 7.83, 7.97, 7.303, 7.403, and 7.503.

Under 30 CFR 15.8(b), the approval holder must report any knowledge of explosives distributed that do not meet the specifications of the approval. Under 30 CFR 28.10(d), 28.30, and 28.31, MSHA requires the applicant to submit a quality control plan for approval to ensure that each fuse is manufactured to have the short-circuit protection as required by the approval.

Under 30 CFR 18.53(h), an applicant must submit an “available fault current” study to MSHA to justify circuit breaker settings to provide protection for the size and length of the longwall motor, shearer, and trailing cables used.

For certain products which are dependent on proper use and maintenance, MSHA requires the manufacturers to provide additional information on the approval marking or instructions to be included with the product. Under 30 CFR 23.7(e), 23.12(a)(2), 28.23, and 35.10, MSHA requires this additional information for the proper use of telephone and signaling systems, fuses, and hydraulic fluids.

Under 30 CFR 7.4, 7.27(a)(8), 7.28(a)(7), 7.46(a)(3), 7.47(a)(6), 7.48(a)(3), 7.407(a)(11) and (a)(12), and 7.408(a)(7) and (a)(8), records of test results and procedures must be retained for 3 years. Under 30 CFR 7.6, applicants must maintain records on the distribution of each unit with an approval marking. This is necessary so that deficient products which may present a hazard to miners can be traced and withdrawn from use until the appropriate corrective action may be taken. Under 30 CFR 7.7(d), applicants must report to MSHA any knowledge of a product distributed that is not in accord with the approval.

Under 30 CFR 7.51, 7.71, 7.108, and 7.311, the applicant must include an approval checklist with each product sold. These checklists are important because they include a description of what is necessary for users to maintain products in approved condition.

Under 30 CFR 7.49, 7.69(c), (e), and (f), 7.90, 7.105, 7.306(d), 7.309, and 7.409, additional information for the proper use and maintenance must be provided. Certain products require more information for proper use and maintenance; therefore, MSHA requires the manufacturers to provide additional information on the approval marking or instructions to be included with the product.

Under 30 CFR 75.1732(a), mine operators must equip continuous mining machines with proximity detection systems and provide miners with miner-wearable components. Proximity detection systems must be approved by MSHA under 30 CFR 18.

II. Desired Focus of Comments

MSHA is soliciting comments concerning the proposed information collection related to Testing, Evaluation, and Approval of Mining Products, 30 CFR subchapter B—parts 6 through 36. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th floor via the West elevator. Before visiting MSHA in person, call 202-693-9455 to make an appointment, in keeping with the Department of Labor's COVID-19 policy. Special health precautions may be required.

III. Current Actions

This information collection request concerns provisions for Testing, Evaluation, and Approval of Mining Products, 30 CFR subchapter B—parts 6 through 36. MSHA has updated the data with respect to the number of respondents, responses, burden hours, and burden costs supporting this information collection request (including MSHA Form 2000-38) from the previous information collection request.

Type of Review: Extension, without change, of a currently approved collection.

Agency: Mine Safety and Health Administration.

OMB Number: 1219-0066.

Affected Public: Business or other for-profit.

Number of Annual Respondents: 83.

Frequency: On occasion.

Number of Annual Responses: 248.

Annual Time Burden: 2,539 hours.

Annual Burden Costs: $211,633.

Annual Other Burden Cost: $2,184,442.

MSHA Form: MSHA Form 2000-38, Electrically Operated Mining Equipment U.S. Department of Labor Field Approval Application (Coal Operator).

Comments submitted in response to this notice will be summarized in the request for Office of Management and Budget approval of the proposed information collection request; they will become a matter of public record and will be available at https://www.reginfo.gov.

Song-ae Aromie Noe,
Mine Safety and Health Administration, Certifying Officer.

[FR Doc. 2024-07564 Filed 4-9-24; 8:45 am]

BILLING CODE 4510-43-P